DEPARTMENT OF TRANSPORTATION

Office of the Secretary

49 CFR Part 71

[Docket No. DOT-OST-2012-0159]

RIN 2105-AE20

Standard Time Zone Boundaries

AGENCY: Office of the Secretary (OST), Department of Transportation (DOT).

ACTION: Final rule.

SUMMARY: This final rule updates and amends the Department's standard time zone boundaries regulations to reflect changes that Congress made to the Uniform Time Act. The purpose of this update is to ensure that the Department's regulations accurately reflect other Federal law and to reduce confusion over ambiguous language and inconsistencies.

DATES: This rule is effective March 13, 2013.

FOR FURTHER INFORMATION CONTACT: Jill Laptosky, Attorney-Advisor, Office of General Counsel, 1200 New Jersey Avenue SE., Washington, DC 20590. She may also be reached by telephone at 202-493-0308 or by email at jill.laptosky@dot.gov.

SUPPLEMENTARY INFORMATION:

Background

Since 2000, Congress has made several amendments to the Uniform Time Act, 15 U.S.C. 260-267. Consequently, the Department's regulations on standard time zone boundaries, 49 CFR Part 71, need to be updated in order to ensure their consistency with Federal law. Therefore, the Department is issuing this final rule to make the necessary updates and to revise the language for clarity.

This final rule is published under the authority of 15 U.S.C. 260-267, which authorized the Secretary of Transportation to prescribe regulations related to the observance of a uniform standard of time.

The Administrative Procedure Act (5 U.S.C. 553) contains a “good cause” exemption, which allows agencies to dispense with notice and comment if those procedures are impracticable, unnecessary, or contrary to the public interest. We have determined that under 5 U.S.C. 553(b)(3)(B), good cause exists for dispensing with a notice of proposed rulemaking and public comment as this rule is implementing statutory changes and clarifying language without imposing any new requirements.

Amendments To Conform to Statute

Section 71.1(a) is amended to correct a drafting error in the current rule that referenced eight time zones instead of the nine that exist pursuant to 15 U.S.C. 263. The first amendment in this final rule thus changes the reference from eight to nine. Likewise, in § 71.1(c), the ninth time zone, Chamorro, is added to the list of time zones.

Section 71.2(a) is amended to change the dates on which Daylight Saving Time begins and ends pursuant to 15 U.S.C. 260a. Daylight Saving Time now begins at 2 a.m. on the second Sunday in March and ends at 2 a.m. on the first Sunday in November.

Additionally, § 71.2(a) is amended to correct the drafting error in relation to a State's authority to exempt an area within its boundaries from the observance of Daylight Saving Time. The amended version accurately states that a State that lies within two time zones may either exempt the entire area of the State or either portion of the State that lies within either time zone.

Revisions to Language for Clarity

Section 71.1(a) is amended to remove part of the last sentence, which states that “specified rail carriers * * * [are authorized] to carry the standard of time on which the major portion of a particular operation is conducted into an adjoining time zone.” This language will not be replaced because it is an unnecessary interpretation of the Federal statute.

Additionally, § 71.1(a) is amended to change the beginning of the sentence that reads, “It also contains lists * * *” It is changed to, “The Uniform Time Act also contains lists * * * ” Likewise, the end of subsection (a) to § 71.1 has been amended to provide a citation to the Federal statute that created the list of specified rail carriers: “15 U.S.C. 265.”

The headings of § 71.7(g) and § 71.9(d) are amended to copy the heading of § 71.5(h) to read, “Municipalities on boundary line.” The three subsections are fundamentally identical, and thus no reason exists to have different headings.

Section 71.6 originally had no subsections. It is now amended so that § 71.6 will have two subsections: § 71.6(a) and (b). The language of the original § 71.6 will remain and be incorporated into the new § 71.6(a). Section 71.6(b) will include the list of specified rail carriers that the Federal statute identifies for the time zones referenced in this Part. See 15 U.S.C. 265. Subsection (a) is now titled, “Central zone in general.” Subsection (b) is titled, “Specified rail carrier exemptions.”

Regulatory Analysis and Notices

Executive Order 12866 (Regulatory Planning and Review), Executive Order 13563 (Improving Regulation and Regulatory Review), and DOT Policies and Procedures

This final rule is not a significant regulatory action within the meaning of Executive Order 12866 or Executive Order 13563 and, therefore, has not been reviewed by the Office of Management and Budget (OMB). This final rule is not significant under DOT's Regulatory Policies and Procedures. This rulemaking makes amendments to update the Department's regulations to make them clearer and consistent with other Federal law. As a result, DOT anticipates that this rulemaking will have no economic impact.

Regulatory Flexibility Act

Since notice and comment rulemaking is not necessary for this rule, the provisions of the Regulatory Flexibility Act (Pub. L. 96-354, 5 U.S.C. 601-612) do not apply. However, DOT has evaluated the effects of this action on small entities and has determined that the action would not have a significant economic impact on a substantial number of small entities because it simply amends our regulations to accurately reflect other Federal law and clarify the regulations.

Unfunded Mandates Reform Act of 1995

This final rule does not impose unfunded mandates as defined by the Unfunded Mandates Reform Act of 1995 (Pub. L. 104-4, 109 Stat. 48). It does not result in the expenditure by State, local, or tribal governments, in the aggregate, or by the private sector, of $148.1 million or more in any 1 year.

Paperwork Reduction Act

Under the Paperwork Reduction Act of 1995 (PRA) (44 U.S.C. 3501, et seq.), Federal agencies must obtain approval from OMB for each collection of information they conduct, sponsor, or require through regulations. The DOT has analyzed this final rule under the PRA and has determined that this rule does not contain collection of information requirements.

Executive Order 13132 (Federalism Assessment)

The final rule does not have a substantial direct effect on the States, the relationship between the national government and the States, or the distribution of power and responsibilities among the various levels of government. This final rule does not include sufficient federalism implications to warrant consultation processes.

Executive Order 13175 (Tribal Consultation)

This final rule was analyzed according to Executive Order 13175, “Consultation and Coordination with Indian Tribal Governments.” The final rule does not include sufficient tribal implications to warrant consultation processes.

National Environmental Policy Act

The National Environmental Policy Act of 1969 (NEPA) (42 U.S.C. 4321-4347), as amended, requires Federal agencies to consider the consequences of major Federal actions and prepare a detailed statement on any action significantly affecting the quality of the human environment. Since this final rule does not alter current practices, it is unlikely that the adoption of this rule will have any significant impacts on the environment.

List of Subjects in 49 CFR Part 71

Time.

Issued in Washington, DC, on March 5, 2013, under authority delegated in 49 CFR Part 1.27(a).
Robert S. Rivkin,
General Counsel.

For the reasons stated in the preamble, the Office of the Secretary amends 49 CFR Part 71 as follows:

PART 71—STANDARD TIME ZONE BOUNDARIES

1. The authority citation for part 71 continues to read as follows:

Authority: 15 U.S.C. 260, 260a, 261, 262, 263, 264, 265, 267, and 49 CFR 5.35(a).

2. In § 71.1, revise paragraphs (a) and (c) to read as follows:

§ 71.1 Limits defined: exceptions authorized for certain rail operating purposes only.

(a) This part prescribes the geographic limits of each of the nine standard time zones established by section 1 of the Standard Time Act, as amended by section 4 of the Uniform Time Act of 1966 (15 U.S.C. 261). The Uniform Time Act also contains lists of operating exceptions granted for specified rail carriers, whose operations cross the time zone boundaries prescribed by this part. (15 U.S.C. 265).

* * * * *

(c) The time zones established by the Standard Time Zone Act, as amended by the Uniform Time Act of 1966, are Atlantic, eastern, central, mountain, Pacific, Alaska, Hawaii-Aleutian, Samoa, and Chamorro.

3. In § 71.2, revise paragraph (a) to read as follows:

§ 71.2 Annual advancement of standard time.

(a) The Uniform Time Act of 1966 (15 U.S.C. 260a(a)), as amended, requires that the standard time of each State observing Daylight Saving Time shall be advanced 1 hour beginning at 2 a.m. on the second Sunday in March of each year and ending at 2 a.m. on the first Sunday in November. This advanced time shall be the standard time of each zone during such period. The Act authorizes any State to exempt itself from this requirement. States in two or more time zones may exempt either the entire State or may exempt the entire area of the State lying within either time zone.

* * * * *

4. Revise § 71.6 to read as follows:

§ 71.6 Central zone.

(a) Central zone in general. The third zone, the central standard time zone, includes that part of the United States that is west of the boundary line between the eastern and central standard time zones described in § 71.5 and east of the boundary line between the central and mountain standard time zones described in § 71.7.

(b) Specified rail carrier exemptions. The boundary line described in § 71.7 will not apply to the list of rail carriers in this subsection. These carriers will have the following changing points between the central and mountain time zones. The Chicago, Rock Island and Gulf Railway Company and the Chicago, Rock Island and Pacific Railway Company may use Tucumcari, New Mexico, as the point at which they change from central to mountain time and vice versa; the Colorado Southern and Fort Worth and Denver City Railway Companies may use Sixela, New Mexico, as such changing point; the Atchison, Topeka and Santa Fe Railway Company and other branches of the Santa Fe system may use Clovis, New Mexico, as such changing point, and those railways running into or through El Paso, Texas, may use El Paso as such point.

6. In § 71.7, revise the paragraph (g) subject heading to read as follows:

§ 71.7 Boundary line between central and mountain zones.

* * * * *

(g) Municipalities on boundary line. * * *

7. In § 71.9, revise the paragraph (d) subject heading to read as follows:

§ 71.9 Boundary line between mountain and Pacific zones.

* * * * *

(d) Municipalities on boundary line. * * *

[FR Doc. 2013-05736 Filed 3-12-13; 8:45 am]

BILLING CODE 4910-9X-P